NATIONAL FOUNDATION FOR THE ARTS AND HUMANITIES

The Impact of Free Access to Public Access Computers and the Internet at Public Libraries Study, Submission for OMB Review, Comment Request

AGENCY: Institute of Museum and Library Services, National Foundation for the Arts and Humanities.

ACTION: Submission to OMB for review, comment request.

SUMMARY: The Institute of Museum and Library Services announces the following information collection has been submitted to the Office of Management and Budget for review and approval in accordance with the Paperwork Reduction Act of 1995 (Pub. L. 104-13, 44 U.S.C. Chapter 35). A copy of this proposed form, with applicable supporting documentation, may be obtained by calling the Institute of Museum and Library Services, Associate Deputy Director for Research and Statistics, Carlos Manjarrez at (202) 653-4671. Individuals who use a telecommunications device for the deaf (TTY/TDD) may call (202) 653-4614. This study is to examine the use of public access computers in public libraries; undertake an analysis of the impact on individuals, families, and communities of the provision of public access computers and access to the Internet in public libraries; and identify and disseminate indicators of impact within communities for public libraries to use for future assessments.

DATES: Comments must be received by September 5, 2008. The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

ADDRESSES: For a copy of the form contact: Lesley Langa, Research Specialist, Office of Policy, Planning, Research & Communication, Institute of Museum and Library Services, 1800 M St., NW., 9th floor, Washington, DC 20036, by telephone (202) 653-4760 or by e-mail llanga@imls.gov.

SUPPLEMENTARY INFORMATION:

I. Background

The Institute of Museum and Library Services is an independent Federal grant-making agency authorized under 20 U.S.C Chapter 72. IMLS provides a variety of grant programs to assist the nation's museums and libraries in improving their operations and enhancing their services to the public. Museums and libraries of all sizes and types may receive support from IMLS programs.

The Museum and Library Services Act includes a strong emphasis on encouraging and assisting museums in their educational role as core providers of learning and in conjunction with schools, families, and communities, and strengthening library services to the public. This study will assist IMLS in understanding the use, impact, and measureable effect public access computers in public libraries provides. A final report will be widely disseminated to assist policy makers and prospective funding for public access computers in public libraries.

20 U.S.C. 9108 authorizes the Director of the Institute of Museum and Library Services to carry out and publish analyses that shall identify national needs for, and trends of, museum and library services; report on the impact and effectiveness of programs conducted with funds made available by the Institute, and identify, and disseminate information on the best practices of such programs.

This study is to examine the use of public access computers in public libraries; undertake an analysis of the impact on individuals, families, and communities of the provision of public access computers and access to the Internet in public libraries; and identify and disseminate indicators of impact within communities for public libraries to use for future assessments.

Agency: Institute of Museum and Library Services.

Title: The Impact of Free Access to Public Access Computers and the Internet in Public Libraries.

OMB Number: None.

Agency Number: 3137.

Frequency: Once.

Affected Public: Library staff, users of public access computers, local officials, and library directors.

Number of Respondents: 1,550,811.

Estimated Time per Respondent: Various.

Total Burden Hours: 387,790 hours.

Total Annualized capital/startup costs: N/A.

Total Annual Costs: $961,273.

Contact: Comments should be sent to Office of Information and Regulatory Affairs, Attn.: OMB Desk Officer for Education, Office of Management and Budget, Room 10235, Washington, DC 20503 (202) 395-7316.

Dated: July 29, 2008.
Lesley Langa,
Research Specialist.

[FR Doc. E8-17983 Filed 8-5-08; 8:45 am]

BILLING CODE 7036-01-P